SUSQUEHANNA RIVER BASIN COMMISSION

Public Hearing

AGENCY: Susquehanna River Basin Commission.

ACTION: Notice.

SUMMARY: The Susquehanna River Basin Commission will hold a public hearing on November 3, 2016, in Harrisburg, Pennsylvania. At this public hearing, the Commission will hear testimony on the projects listed in the Supplementary Information section of this notice. Such projects are intended to be scheduled for Commission action at its next business meeting, tentatively scheduled for December 8, 2016, which will be noticed separately. The public should take note that this public hearing will be the only opportunity to offer oral comment to the Commission for the listed projects. The deadline for the submission of written comments is November 14, 2016.

DATES: The public hearing will convene on November 3, 2016, at 2:00 p.m. The public hearing will end at 5:00 p.m. or at the conclusion of public testimony, whichever is sooner. The deadline for the submission of written comments is November 14, 2016.

ADDRESSES: The public hearing will be conducted at the Pennsylvania State Capitol, Room 8E-B, East Wing, Commonwealth Avenue, Harrisburg, Pa.

FOR FURTHER INFORMATION CONTACT: Jason Oyler, General Counsel, telephone: (717) 238-0423, ext. 1312; fax: (717) 238-2436.

Information concerning the applications for these projects is available at the SRBC Water Resource Portal at www.srbc.net/wrp. Additional supporting documents are available to inspect and copy in accordance with the Commission's Access to Records Policy at www.srbc.net/pubinfo/docs/2009-02_Access_to_Records_Policy_20140115.pdf.

SUPPLEMENTARY INFORMATION: The public hearing will cover the following projects:

Projects Scheduled for Action

1. Project Sponsor and Facility: Cabot Oil & Gas Corporation (Bowman Creek), Eaton Township, Wyoming County, Pa. Application for renewal of surface water withdrawal of up to 0.290 mgd (peak day) (Docket No. 20121201).

2. Project Sponsor and Facility: Cabot Oil & Gas Corporation (Susquehanna River), Susquehanna Depot Borough, Susquehanna County, Pa. Application for renewal with modification of surface water withdrawal of up to 1.500 mgd (peak day) (Docket No. 20120903).

3. Project Sponsor and Facility: Chester Water Authority, East and West Nottingham Townships, Chester County, Pa. Application for an interconnection with the Town of Rising Sun of up to 1.800 mgd (peak day).

4. Project Sponsor and Facility: Conyngham Borough Authority, Sugarloaf Township, Luzerne County, Pa. Application for groundwater withdrawal of up to 0.120 mgd (30-day average) from Well 6.

5. Project Sponsor: Exelon Generation Company, LLC. Project Facility: Muddy Run Pumped Storage Project, Drumore and Martic Townships, Lancaster County, Pa. Application for an existing hydroelectric facility.

6. Project Sponsor: Future Power PA, LLC. Project Facility: Good Spring NGCC, Porter Township, Schuylkill County, Pa. Application for consumptive water use of up to 0.063 mgd (peak day).

7. Project Sponsor: Future Power PA, LLC. Project Facility: Good Spring NGCC, Porter Township, Schuylkill County, Pa. Application for groundwater withdrawal of up to 0.126 mgd (30-day average) from Well RW-1.

8. Project Sponsor: Future Power PA, LLC. Project Facility: Good Spring NGCC, Porter Township, Schuylkill County, Pa. Application for groundwater withdrawal of up to 0.126 mgd (30-day average) from Well RW-2.

9. Project Sponsor and Facility: Gilberton Power Company, West Mahanoy Township, Schuylkill County, Pa. Application for renewal of consumptive water use of up to 1.510 mgd (peak day) (Docket No. 19851202).

10. Project Sponsor and Facility: Gilberton Power Company, West Mahanoy Township, Schuylkill County, Pa. Application for groundwater withdrawal of up to 1.870 mgd (30-day average) from the Gilberton Mine Pool.

11. Project Sponsor and Facility: Keystone Clearwater Solutions, LLC (Moshannon Creek), Snow Shoe Township, Centre County, Pa. Application for renewal of surface water withdrawal of up to 0.999 mgd (peak day) (Docket No. 20120910).

12. Project Sponsor: Lycoming County Water and Sewer Authority. Project Facility: Halls Station System, Muncy Township, Lycoming County, Pa. Application for groundwater withdrawal of up to 0.158 mgd (30-day average) from Well PW-1.

13. Project Sponsor and Facility: Moxie Freedom LLC, Salem Township, Luzerne County, Pa. Minor modification to add a new source (Production Well 2) to existing consumptive use approval (no increase requested in consumptive use quantity) (Docket No. 20150907).

14. Project Sponsor and Facility: Moxie Freedom LLC, Salem Township, Luzerne County, Pa. Application for groundwater withdrawal of up to 0.062 mgd (30-day average) from Production Well 2.

15. Project Sponsor and Facility: Town of Nichols, Tioga County, N.Y. Application for groundwater withdrawal of up to 0.250 mgd (30-day average) from Well PW-1.

16. Project Sponsor and Facility: Town of Nichols, Tioga County, N.Y. Application for groundwater withdrawal of up to 0.250 mgd (30-day average) from Well PW-2.

17. Project Sponsor and Facility: Town of Rising Sun, Rising Sun District, Cecil County, Md. Application for an interconnection with the Chester Water Authority of up to 1.800 mgd (peak day).

18. Project Sponsor and Facility: Sunoco Pipeline, L.P. (Conodoguinet Creek), North Middleton Township, Cumberland County, Pa. Application for surface water withdrawal of up to 2.880 mgd (peak day).

19. Project Sponsor and Facility: Sunoco Pipeline, L.P. (Frankstown Branch Juniata River), Frankstown Township, Blair County, Pa. Application for surface water withdrawal of up to 2.880 mgd (peak day).

20. Project Sponsor and Facility: Sunoco Pipeline, L.P. (Susquehanna River), Highspire Borough and Lower Swatara Township, Dauphin County, Pa. Application for surface water withdrawal of up to 2.880 mgd (peak day).

21. Project Sponsor and Facility: Sunoco Pipeline, L.P. (Swatara Creek), Londonderry Township, Dauphin County, Pa. Application for surface water withdrawal of up to 2.880 mgd (peak day).

22. Project Sponsor and Facility: Sunoco Pipeline, L.P. (Tuscarora Creek), Lack Township, Juniata County, Pa. Application for surface water withdrawal of up to 2.880 mgd (peak day).

23. Project Sponsor and Facility: SWEPI LP (Cowanesque River), Deerfield Township, Tioga County, Pa. Application for surface water withdrawal of up to 2.000 mgd (peak day).

24. Project Sponsor and Facility: Transcontinental Gas Pipe Line Company, LLC. Project: Atlantic Sunrise (Fishing Creek), Hemlock Township, Columbia County, Pa. Application for surface water withdrawal of up to 2.880 mgd (peak day).

25. Project Sponsor and Facility: Transcontinental Gas Pipe Line Company, LLC. Project: Atlantic Sunrise (Fishing Creek), Hemlock Township, Columbia County, Pa. Application for consumptive water use of up to 0.100 mgd (peak day).

Projects Scheduled for Action Involving a Diversion

1. Project Sponsor and Facility: Gilberton Power Company, West Mahanoy Township, Schuylkill County, Pa. Application for an into-basin diversion from the Delaware River Basin of up to 0.099 mgd (peak day) from Wells AN-P03 and AN-P04.

2. Project Sponsor and Facility: JKLM Energy, LLC, Roulette Township, Potter County, Pa. Application for an into-basin diversion from the Ohio River Basin of up to 1.100 mgd (peak day) from the Goodwin and Son's Sand and Gravel Quarry.

Opportunity To Appear and Comment

Interested parties may appear at the hearing to offer comments to the Commission on any project listed above. The presiding officer reserves the right to limit oral statements in the interest of time and to otherwise control the course of the hearing. Rules of conduct will be posted on the Commission's Web site, www.srbc.net, prior to the hearing for review. The presiding officer reserves the right to modify or supplement such rules at the hearing. Written comments on any project listed above may also be mailed to Mr. Jason Oyler, General Counsel, Susquehanna River Basin Commission, 4423 North Front Street, Harrisburg, Pa. 17110-1788, or submitted electronically through www.srbc.net/pubinfo/publicparticipation.htm. Comments mailed or electronically submitted must be received by the Commission on or before November 14, 2016, to be considered.

Authority: Pub. L. 91-575, 84 Stat. 1509 et seq., 18 CFR parts 806, 807, and 808.

Dated: September 29, 2016.
Stephanie L. Richardson,
Secretary to the Commission.

[FR Doc. 2016-24032 Filed 10-4-16; 8:45 am]

BILLING CODE 7040-01-P